DEPARTMENT OF DEFENSE

Department of the Army

[Docket ID: USA-2018-HQ-0013]

Submission for OMB Review; Comment Request

AGENCY: Department of the Army, DoD.

ACTION: 30-Day information collection notice.

SUMMARY: The Department of Defense has submitted to OMB for clearance the following proposal for collection of information under the provisions of the Paperwork Reduction Act.

DATES: Consideration will be given to all comments received by March 22, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION: Title; Associated Form; and OMB Number: ArmyFit; OMB Control Number 0702-XXXX.

Type of Request: New information collection request.

Number of Respondents: 1,700.

Responses per Respondent: 1.

Annual Responses: 1,700.

Average Burden per Response: 15 minutes.

Annual Burden Hours: 425.

Needs And Uses: This collection supports the mission of the Army Resiliency Directorate (ARD), HQDA G-1, to improve the readiness of the force and quality of life for service members. ARD owns the Army Fitness Platform (ArmyFit). ArmyFit hosts the Global Assessment Tool (GAT), which is an assessment promoting self-development through its user feedback and enables the creation of a customized ArmyFit profile which directs individuals to tailored self-development and training resources for soldiers, their families, and Army civilians. ArmyFit is a self-appraisal survey for assessing an individual's fitness in dimensions of strength: Physical, emotional, social, spiritual, and family. It is a tool for building resilience. The survey is taken by all soldiers and offered to family members, Army Civilians, and contractors.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Frederick Licari.

Requests for copies of the information collection proposal should be sent to Mr. Licari at whs.mc-alex.esd.mbx.dd-dod-information-collections@mail.mil.

Dated: February 14, 2019.
Shelly E. Finke,
Alternate OSD Federal Register, Liaison Officer, Department of Defense.

[FR Doc. 2019-02811 Filed 2-19-19; 8:45 am]

BILLING CODE 5001-06-P